DEPARTMENT OF COMMERCE

International Trade Administration

Exemption of Foreign Air Carriers From Customs Duties and Excise Taxes; Review of Findings of Reciprocity Eligibility

AGENCY: International Trade Administration, U.S. Department of Commerce.

ACTION: Solicitation of public comments concerning a review undertaken at the request of the U.S. Internal Revenue Service of existing exemptions for aircraft of foreign registry from certain customs duties and internal revenue taxes on the purchase of supplies in the United States for such aircraft in connection with their international commercial operations.

SUMMARY: Notice is hereby given that, pursuant to sections 1309 and 1317 of the Tariff Act of 1930, as amended (19 U.S.C. 1309 and 1317), and section 4221 of the Internal Revenue Code, as amended (26 U.S.C. 4221), the Department of Commerce is undertaking to determine whether the governments of the countries listed herein allow or will allow substantially reciprocal customs duties and tax exemptions to aircraft of U.S. registry in connection with international commercial operations similar to those exemptions currently granted to or available to aircraft of those countries by the United States under the aforementioned statutes. The basis for this undertaking is the implementation of certain provisions of the Air Transport Agreement between the United States and the European Community and its Member States, signed in Washington, DC, on April 30, 2007. The Department of Commerce finding would be effective as of March 30, 2008.

The above-cited statutes provide exemptions for aircraft of foreign registry from payment of certain customs duties and internal revenue taxes on supplies purchased, imported or stored in the United States for such aircraft in connection with their international commercial operations. These exemptions apply upon a finding by the Secretary of Commerce, or his designee, and communicated to the Department of the Treasury, that such country allows, or will allow, “substantially reciprocal privileges” to aircraft of U.S. registry with respect to purchases of such supplies in that country. The Department of Commerce proposes that aircraft registered in the following countries be provided exemptions as allowed by sections 1309 and 1317 of the Tariff Act of 1930, as amended (19 U.S.C. 1309 and 1317), and section 4221 of the Internal Revenue Code, as amended (26 U.S.C. 4221).

Austria, Belgium, Bulgaria, Cyprus, Czech Republic, Denmark, Estonia, Finland, France, Federal Republic of Germany, Greece, Hungary, Ireland, Italy, Latvia, Lithuania, Luxembourg, Malta, Netherlands, Poland, Portugal, Romania, Slovak Republic, Slovenia, Spain, Sweden, United Kingdom.

Interested parties are invited to submit their views, comments and supporting documentation in writing, concerning this matter to Ms. Ana Guevara, Deputy Assistant Secretary for Services, Room 1128, U.S. Department of Commerce, Washington, DC 20230. Submissions should be sent electronically to OSImail@ita.doc.gov. All submissions should be received no later than thirty days from the date of publication of this notice. Comments received, with the exception of information marked “business confidential,” will be available for public inspection upon request. Information marked “business confidential” shall be protected from disclosure to the full extent permitted by law. It is suggested that those desiring additional information contact Mr. Eugene Alford, Office of Service Industries, Room 1104, U.S. Department of Commerce, Washington, DC 20230, or telephone 202-482-5071.

Dated: February 15, 2008.
Carlos Montoulieu,
Acting Deputy Assistant Secretary for Services.

[FR Doc. E8-3306 Filed 2-21-08; 8:45 am]

BILLING CODE 3510-DR-P